DEPARTMENT OF TRANSPORTATION

Federal Aviation Administration

[Docket No. FAA-2024-0640]

Agency Information Collection Activities: Requests for Comments; Clearance of Renewed Approval of Information Collection: NAS Data Release Request

AGENCY: Federal Aviation Administration (FAA), DOT.

ACTION: Notice and request for comments.

SUMMARY: In accordance with the Paperwork Reduction Act of 1995, FAA invites public comments about our intention to request the Office of Management and Budget (OMB) approval to renew an information collection. The collection is an application form, and collection frequency is on occasion, depending on how often requests for NAS data are submitted to the FAA. The information to be collected will be used to evaluate the validity of a user's request for National Airspace (NAS) data from FAA systems and equipment.

DATES: Written comments should be submitted by May 7, 2024.

ADDRESSES: Please send written comments:

By Electronic Docket: www.regulations.gov (Enter docket number into search field).

FOR FURTHER INFORMATION CONTACT: Thomas Shields by email at: thomas.s-ctr.shields@faa.gov; phone: 703-946-2415.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0668.

Title: NAS Data Release Request.

Form Numbers: FAA Form 1200-5.

Type of Review: Renewal of an information collection.

Background: This information collection is required to obtain or retain a benefit, which is to obtain NAS data from the FAA. This submission includes information about the entity requesting the NAS data to determine their “need to know” for the NAS data, the sensitivity of NAS data requested, the intended purpose and rationale for requiring the NAS data, and who within the requesting organization will have access to the data, including the scope and nature of work the employee will perform.

This information must be collected to enable the FAA to evaluate the “need to know” of a request for NAS data from FAA systems and equipment. The information provided by the requestor is used by the FAA NAS Data Release Board (NDRB) to approve or disapprove individual requests for NAS data, consistent with FAA Order 1200.22E External Requests for National Airspace System (NAS) Data.

Respondents: Approximately 9 requests submitted annually to the FAA by requestors of NAS data.

Frequency: On occasion.

Estimated Average Burden per Response: 1 hour.

Estimated Total Annual Burden: 9 hours total.

Issued in Washington, DC, on February 29, 2024.
David Heron,
Air Traffic Control Specialist, Strategic Operations Security Group.

[FR Doc. 2024-04922 Filed 3-7-24; 8:45 am]

BILLING CODE 4910-13-P